DEPARTMENT OF HEALTH AND HUMAN SERVICES

Centers for Disease Control and Prevention

[30Day-06-0237)

Agency Forms Undergoing Paperwork Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

The 2007-2008 National Health and Nutrition Examination Survey NHANES—(0920-0237)—Revision—National Center for Health Statistics (NCHS), Centers for Disease Control and Prevention (CDC).

Background and Brief Description

The National Health and Nutrition Examination Survey (NHANES) has been conducted periodically since 1970 and continuously since 1999 by the National Center for Health Statistics, CDC. Participants will receive a household interview, a physical examination, a telephone dietary interview and a telephone interview. The telephone interview, as well as selected questions in the household interview will be referred to as the Flexible Consumer Behavior Survey (FCBS) and will include questions on food expenditures, diet and health knowledge and other food and nutrition topics. Of the over 13,000 individuals who will be screened, it is estimated that approximately 5,000 participants will be examined annually. Participation in the survey is completely voluntary and confidential.

NHANES programs produce descriptive statistics which measure the health and nutrition status of the general population. Through the use of questionnaires, physical examinations, and laboratory tests, NHANES studies the relationship between diet, nutrition and health in a representative sample of the United States. NHANES monitors the prevalence of chronic conditions and risk factors related to health such as asthma, osteoporosis, infectious diseases, diabetes, eye disease, high blood pressure, high cholesterol, obesity, smoking, drug and alcohol use, physical activity, environmental exposures, and diet. NHANES data are used to establish the norms for the general population against which health care providers can compare such patient characteristics as height, weight, and nutrient levels in the blood. Data from NHANES can be compared to those from previous surveys to monitor changes in the health of the U.S. population. NHANES will also establish a national probability sample of genetic material for future genetic research for susceptibility to disease.

Users of NHANES data include Congress; the World Health Organization; Federal agencies such as NIH, EPA, and USDA; private groups such as the American Heart Association; schools of public health; private businesses; individual practitioners; and administrators. NHANES data are used to establish, monitor, and/or evaluate recommended dietary allowances, food fortification policies, environmental exposures, immunization guidelines and health education and disease prevention programs. The current submission requests approval for three years.

There is no net cost to respondents other than their time. Respondents are reimbursed for any out-of-pocket costs such as transportation to and from the examination center. The total estimated annualized burden hours are 59,864.

Estimated Annualized Burden Hours
Burden category | Number of respondents per year | Number of responses per respondent | Average burden per response (hours)
1. Screening interview only | 13,333 | 1 | 10/60
2. Screener, family, and sample person interviews only | 300 | 1 | 1.10
3. Screener, family, and sample person interviews and MEC examination (including pilot studies) | 5,180 | 1 | 5.9
4. Second dietary recall interview | 4,300 | 1 | 30/60
5. Telephone Interview (FCBS) | 3,000 | 1 | 20/60
6. Follow-up, special studies, and tests of procedures | 4,000 | 1 | 5.9

Dated: September 19, 2006.
Joan F. Karr,
Acting Reports Clearance Officer, Centers for Disease Control and Prevention.

[FR Doc. 06-8164 Filed 9-22-06; 8:45 am]

BILLING CODE 4163-18-P